NUCLEAR REGULATORY COMMISSION

[NRC-2014-0082]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from March 20, 2014, to April 2, 2014. The last biweekly notice was published on April 1, 2014.

DATES: Comments must be filed by May 15, 2014. A request for a hearing must be filed by June 16, 2014.

ADDRESSES: You may submit comments by any of the following methods (unless this document describes a different method for submitting comments on a specific subject):

• Federal Rulemaking Web site: Go to http://www.regulations.gov and search for Docket ID NRC-2014-0082. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Angela Baxter, Office of Nuclear Reactor Regulation, U.S. Nuclear Regulatory Commission, Washington, DC 20555-0001; telephone: 301-415-2976, email: angela.baxter@nrc.gov.

SUPPLEMENTARY INFORMATION:

I. Accessing Information and Submitting Comments.

A. Accessing Information

Please refer to Docket ID NRC-2014-0082 when contacting the NRC about the availability of information regarding this document. You may access publicly-available information related to this document by any of the following methods:

• Federal Rulemaking Web site: Go to http://www.regulations.gov and search for Docket ID NRC-2014-0082.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments.

Please include Docket ID NRC-2014-0082 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Accessing Information and Submitting Comments” section of this document.

Entergy Operations, Inc., Docket No. 50-368, Arkansas Nuclear One, Unit 2, Pope County, Arkansas

Date of amendment request: January 21, 2014, as supplemented by letter dated March 17, 2014. A publicly-available version is in ADAMS under Accession Nos. ML14021A085 and ML14077A139.

Description of amendment request: The amendment would modify Technical Specification (TS) 6.5.16, “Containment Leakage Rate Testing Program,” to require a seal contact verification in lieu of a seal pressure test with respect to the Emergency Escape Air Lock doors.

Basis for proposed no significant hazards consideration determination: As required by 10 CFR 50.91(a), the licensee has provided its analysis of the issue of no significant hazards consideration, which is presented below:

1. Does the proposed change involve a significant increase in the probability or consequences of an accident previously evaluated?

Response: No.

The proposed change would permit Emergency Escape Air Lock door seal leak rate testing to be performed by a seal contact check following door opening, overall full pressure test of the Emergency Escape Air Lock, or seal contact adjustments. The seal contact test method will result in a continuation of the established practice which has provided a high degree of confidence in door seal performance. At Palisades [Nuclear Plant,] Emergency Escape Air Lock door seals which have been inspected in accordance with the proposed methodology have passed subsequent full pressure Emergency Escape Air Lock leakage tests and have not interfered with successful Containment Building Integrated Leak Rate Testing (ILRT).

Since the proposed methodology can be used to successfully verify door seal condition and contact, the use of this methodology for testing will not cause an increase in the probability of a leaking Emergency Escape Air Lock door seal going undetected. The combination of the door seal contact check and the overall full pressure testing of the Emergency Escape Air Lock will provide high confidence of the air lock performing its design function under accident conditions.

Therefore, this change does not involve a significant increase in the probability or consequences of an accident previously evaluated.

2. Does the proposed change create the possibility of a new or different kind of accident from any accident previously evaluated?

Response: No.

The proposed change is associated exclusively with testing of features related to Containment Building integrity. The change affects only the testing methodology of the Emergency Escape Air Lock door seals. The proposed testing method does not result in any physical alterations to the plant configuration, no new structure, system, or component (SSC) is added, no SSC interfaces are modified, and no changes to any design function of an SSC or the methods of SSC operation are being made. As the proposed change would not change the design, configuration, or operation of the plant, the change would not cause the Containment Leakage Rate Testing Program to become an accident initiator.

Therefore, this change does not create the possibility of a new or different kind of accident from an accident previously evaluated.

3. Does the proposed change involve a significant reduction in a margin of safety?

Response: No.

The proposed change is associated exclusively with testing of features related to Containment Building integrity. The change affects only the testing methodology of the Emergency Escape Air Lock door seals. The change is unrelated to an initiator of any accident previously evaluated. The proposed application of a door seal contact check in lieu of a between-the-seals pressure test along with continuation of the overall full pressure test of the Emergency Escape Air Lock will continue to provide high confidence that the Containment Building leakage rate criteria for the Emergency Escape Air Lock will not exceed the maximum allowable leakage rates defined in the TSs or assumed in the accident analysis.

Therefore, this change does not involve a significant reduction in a margin safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel-Nuclear, Entergy Services, Inc., 639 Loyola Avenue, New Orleans, Louisiana 70113.

NRC Branch Chief: Michael T. Markley.

Entergy Nuclear Operations, Inc., Docket No. 50-333, James A. FitzPatrick Nuclear Power Plant (JAFNPP), Oswego County, New York

Date of amendment request: May 7, 2013. A publicly-available version is in ADAMS under Accession No. ML13128A165.

Description of amendment request: The proposed amendment would revise JAFNPP's Renewed Facility Operating License (RFOL) Condition 2.T wording to be congruent with the proposed license condition wording contained in NUREG-1905 SER Section 1.7 and to clarify that the programs and activities described in the Updated Final Safety Analysis Report (UFSAR) Supplement (and identified in Appendix A of NUREG-1905) are to be completed no later than the period of extended operation date. The change removes any potential inference that any of the activities are being implemented after the period of extended operation. The intent of this proposed amendment is to ensure that (1) the changes made to these programs and activities are made in accordance with the 10 CFR 50.59 process, and clarify that (2) only the changes to the implementation date of those license renewal commitments that have been codified by inclusion into the UFSAR are required to be made in accordance with the 10 CFR 50.90 process.

Basis for proposed no significant hazards consideration determination: As required by 10 CFR 50.91(a), the licensee has provided its analysis of the issue of no significant hazards consideration, which is presented below:

4.1.1 Does the proposed amendment involve a significant increase in the probability or consequences of an accident previously evaluated?

No, the proposed amendment does not involve a change to a System, Structure, or Component (SSC) that initiates a plant accident. The change clarifies JAFNPP RFOL Condition 2.T. The license condition deals with the administrative controls over information contained in the Updated Final Safety Analysis Report (UFSAR) supplement. In addition, the change provides the actual completion date in lieu of the schedule contained in the Commitment Appendix of the SER, for license renewal commitments codified into the UFSAR and removes the inference that any programs and activities are being implemented during the period of extended operation. The proposed changes are administrative and the license condition does not initiate or mitigate any previously evaluated accidents.

Therefore, the proposed amendment does not involve a significant increase in the probability or consequences of an accident previously evaluated.

4.1.2 Does the proposed amendment create the possibility of a new or different kind of accident from any accident previously evaluated?

No, the proposed amendment does not involve any physical alteration of plant equipment and does not change the method by which any safety-related system performs its function. The license condition deals with the administrative controls over information contained in the UFSAR supplement. In addition, the change provides the actual completion date in lieu of the schedule contained in the Commitment Appendix of the SER, for license renewal commitments codified into the UFSAR and removes the inference that any activities are being implemented during the period of extended operation. No new or different types of equipment will be installed and the basic operation of installed equipment is unchanged.

Therefore, the proposed amendment does not create the possibility of a new or different kind of accident from any accident previously evaluated.

4.1.3: Does the proposed amendment involve a significant reduction in a margin of safety?

No, the proposed amendment does not affect design codes or design margins. The changes that clarifies JAFNPP RFOL Condition 2.T are administrative in nature and do not have the ability to affect any analyzed safety margins.

Therefore, operation of JAFNPP in accordance with the proposed amendment change will not involve a significant reduction in the margin of safety.

The NRC staff has reviewed the licensee's analysis and, based on this review, it appears that the three standards of 10 CFR 50.92(c) are satisfied. Therefore, the NRC staff proposes to determine that the amendment request involves no significant hazards consideration.

Attorney for licensee: Jeanne Cho, Assistant General Counsel, Entergy Nuclear Operations, Inc., 440 Hamilton Avenue, White Plains, NY 10601.

NRC Branch Chief: Benjamin G. Beasley.

Entergy Nuclear Operations, Inc., Docket No. 50-255, Palisades Nuclear Plant, Van Buren County, Michigan

Date of amendment request: December 30, 2013. A publicly available version is in ADAMS under Accession No. ML13364A328.

Description of amendment request: The proposed amendment would change the Palisades Nuclear Plant (PNP) Cyber Security Plan (CSP) Milestone 8 full implementation date as set forth in the Cyber Security Plan Implementation Schedule approved by Amendment No. 243 issued on July 28, 2011, to Renewed Facility Operating License No. DPR-20 for PNP (ADAMS Accession No. ML111801243).

Basis for proposed no significant hazards consideration determination: As required by 10 CFR 50.91(a), the licensee has provided its analysis of the issue of no significant hazards consideration, which is presented below:

1. Does the proposed change involve a significant increase in the probability or consequences of an accident previously evaluated?

Response: No.

The proposed change to the CSP Implementation Schedule is administrative in nature. This change does not alter accident analysis assumptions, add any initiators, or affect the function of plant systems or the manner in which systems are operated, maintained, modified, tested, or inspected. The proposed change does not require any plant modifications which affect the performance capability of the structures, systems, and components relied upon to mitigate the consequences of postulated accidents, and has no impact on the probability or consequences of an accident previously evaluated.

Therefore, the proposed change does not involve a significant increase in the probability or consequences of an accident previously evaluated.

2. Does the proposed change create the possibility of a new or different kind of accident from any accident previously evaluated?

Response: No.

The proposed change to the CSP Implementation Schedule is administrative in nature. This proposed change does not alter accident analysis assumptions, add any initiators, or affect the function of plant systems or the manner in which systems are operated, maintained, modified, tested, or inspected. The proposed change does not require any plant modifications which affect the performance capability of the structures, systems and components, relied upon to mitigate the consequences of postulated accidents and does not create the possibility of a new or different kind of accident from any accident previously evaluated.

Therefore, the proposed change does not create the possibility of a new or different kind of accident from any accident previously evaluated.

3. Does the proposed change involve a significant reduction in a margin of safety?

Response: No.

Plant safety margins are established through limiting conditions for operation, limiting safety system settings, and safety limits specified in the technical specifications. The proposed change to the CSP Implementation Schedule is administrative in nature. In addition, the milestone date delay for full implementation of the CSP has no substantive impact because other measures have been taken which provide adequate protection during this period of time. Because there is no change to established safety margins as a result of this change, the proposed change does not involve a significant reduction in a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William Dennis, Assistant General Counsel, Entergy Nuclear Operations, Inc., 440 Hamilton Ave., White Plains, NY 10601.

NRC Branch Chief: Robert D. Carlson.

FirstEnergy Nuclear Operating Company, et al., Docket No. 50-440, Perry Nuclear Power Plant, Unit 1, Lake County, Ohio

Date of amendment request: December 6, 2013, as supplemented by a letter dated. February 27, 2014. A publicly-available version is in ADAMS under Accession Nos. ML13343A013 and ML14059A221.

Description of amendment request: The proposed amendment would revise the Updated Safety Analyses Report (USAR) to reflect updated radiological calculations using an alternative accident source term (AST) from the applicable design bases event and to revise the technical specification (TS) definition of DOSE EQUIVALENT IODINE-131.

Basis for proposed no significant hazards consideration determination: As required by 10 CFR 50.91(a), the licensee has provided its analysis of the issue of no significant hazards consideration which is presented below:

1. This proposed amendment does not involve a significant increase in the probability or consequences of an accident previously evaluated.

The proposed amendment involves implementation of the AST for the control rod drop accident (CRDA) and the main steam line break (MSLB) at PNPP. The proposed amendment also updates the methods and assumptions used in the loss of coolant accident (LOCA) dose calculation, which maintains conformance with Regulatory Guide (RG) 1.183, and revises the TS DOSE EQUIVALENT 1-131 definition. The proposed amendment does not involve any physical design modifications to plant structures, systems or components other than the planned use of GNF2 fuel beginning with Cycle 16, and the revised calculations do not impact any accident initiators. Because design basis accident initiators are not being altered, the probability of an accident previously evaluated is not affected.

With respect to consequences, the AST is an input to calculations used to evaluate the consequences of an accident, and that AST input does not by itself affect the plant response, or the actual path of radiation postulated to be released. The design basis radiological consequence analyses themselves, which include updates to the core source term, input assumptions, and the methodology used to calculate dose consequences, do not affect the plant response, or the actual pathway of radiation that might be released during an event. Likewise, the DOSE EQUIVALENT 1-131 definition revision does not affect any plant response. For the evaluated events and the definition revision, the analyses demonstrate acceptable doses within regulatory limits. As detailed in the technical evaluation for the amendment request, a comparison of the former dose consequences against the newly calculated dose consequences for the evaluated events showed that the doses at the EAB and the LPZ are either negligibly changed or are lower than previously evaluated, except for the CRDA Scenario 1 analysis, for which the calculated doses increase, but by less than 2 percent of the margin to the acceptance criteria. The acceptance criteria for the CRDA is specified in RG-1.183 Table 6, and is only 25 percent of the regulatory limit specified in 10 CFR 50.67. Control room doses for the LOCA event decrease; for the other events, control room doses were not previously required to be calculated. Therefore, it is concluded that the consequences of previously evaluated accidents are not significantly increased.

Based on the above conclusions, this proposed amendment does not involve a significant increase in the probability or consequences of an accident previously evaluated.

2. This proposed amendment does not create the possibility of a new or different kind of accident from any accident previously evaluated.

The proposed amendment does not involve a physical alteration of the plant. No new or different type of equipment will be installed and there are no physical modifications to existing installed equipment associated with the proposed changes. Also, there are no proposed changes to the methods governing plant/system operation, so no new initiators or precursors of a new or different kind of accident are created. New equipment or personnel failure modes that might initiate a new type of accident are not created as a result of the proposed amendment.

Thus, this amendment does not create the possibility of a new or different kind of accident from any accident previously evaluated.

3. This proposed amendment does not involve a significant reduction in a margin of safety.

Approval is requested for changes that primarily conform with RG-1.183 for the CRDA, MSLB, and LOCA analyses, as well as the TS DOSE EQUIVALENT 1-131 definition. The results of the accident analyses, including the use of FGR 11 dose conversion factors, are subject to acceptance criteria specified in 10 CFR 50.67 “Accident source term,” and RG-1.183. The analyses have been performed using conservative methodologies, as specified in RG-1.183. Safety margins have been evaluated and analytical conservatism has been utilized to ensure the analyses adequately bound postulated event scenarios. The dose consequences remain within the acceptance criteria presented in 10 CFR 50.67 “Accident source term,” and RG-1.183. The only calculated doses that were determined to increase did so by less than 2 percent of the margin to the acceptance criteria specified in RG-1.183 (the regulatory guide acceptance criteria are 25 percent of the regulatory limits specified in 10 CFR 50.67).

Therefore the proposed license amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop. A-GO-15, 76 South Main Street, Akron, OH 44308.

NRC Branch Chief: Travis L. Tate.

PSEG Nuclear LLC, Docket No. 50-354, Hope Creek Generating Station, Salem County, New Jersey

Date of amendment request: September 5, 2013. A publicly-available version is in ADAMS under Accession No. ML13249A242.

Description of amendment request: The proposed amendment would relocate the operability and surveillance requirements for flood protection from the Hope Creek Generating Station (Hope Creek) Technical Specifications (TS) to the Hope Creek Technical Requirements Manual (TRM).

Basis for proposed no significant hazards consideration determination: As required by 10 CFR 50.91(a), the licensee has provided its analysis of the issue of no significant hazards consideration, which is presented below with the NRC staff's edits in square brackets:

1. Do the proposed changes involve a significant increase in the probability or consequences of an accident previously evaluated?

Response: No.

The proposed changes to the TS would relocate the operability and surveillance requirements for the flood protection from the TS to the TRM. Flood protection is not assumed to be an initiator of an accident in the Hope Creek UFSAR [Updated Final Safety Analysis Report]. The proposed changes do not alter the design of any system, structure, or component (SSC). The proposed changes conform to NRC regulatory [requirements] regarding the content of plant TS, as identified in 10 CFR 50.36, [and the regulatory guidance identified in] NUREG-1433, and [also conform with] the NRC's Final Policy Statement published on July 22, 1993 (58 FR 39132).

Therefore, these proposed changes do not represent a significant increase in the probability or consequences of an accident previously evaluated.

2. Do the proposed changes create the possibility of a new or different kind of accident from any accident previously evaluated?

Response: No.

The proposed changes to the TS would relocate the operability and surveillance requirements for flood protection from the TS to the TRM. The proposed changes do not involve a modification to the physical configuration of the plant or a change in the methods governing normal plant operation. The proposed changes will not impose any new or different requirement or introduce a new accident initiator, accident precursor, or malfunction mechanism.

Additionally, there is no change in the types or increases in the amounts of any effluent that may be released off-site and there is no increase in individual or cumulative occupational exposure.

Therefore, the proposed changes do not create the possibility of a new or different kind of accident from any accident previously evaluated.

3. Do the proposed changes involve a significant reduction in a margin of safety?

Response: No.

The proposed changes to the TS would relocate the operability and surveillance requirements for flood protection from the TS to the TRM. This relocation will not affect protection criteria for plant equipment and will not reduce the margin of safety.

Operability and surveillance requirements will be established in a licensee-controlled document, the TRM, to ensure the capability for external flood protection remains intact. Changes to these requirements in the TRM will be subject to the provisions of 10 CFR 50.59, providing an appropriate level of regulatory control.

Therefore, the proposed changes do not involve a significant reduction in a margin of safety.

The NRC staff has reviewed the licensee's analysis and, based on this review, and with the changes noted above in square brackets, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

NRC Branch Chief: Meena K. Khanna.

South Carolina Electric and Gas Docket Nos.: 52-027 and 52-028, Virgil C. Summer Nuclear Station (VCSNS) Units 2 and 3, Fairfield County, South Carolina

Date of amendment request: February 27, 2014. A publicly-available version is in ADAMS under Accession No. ML14065A022.

Description of amendment request: The proposed change would amend Combined License Nos. NPF-93 and NPF-94 for the Virgil C. Summer Nuclear Station (VCSNS) Units 2 and 3 by departing from the plant-specific Design Control Document (DCD) Tier 1 (and corresponding Combined License Appendix C information) and Tier 2 material by making changes to the annex and radwaste building structures and layout by:

(1) Updating the annex building column line designations on affected Tier 1 Figures and Tier 2 Figure 3.7.2-19; and

(2) Revising the radwaste building configuration including the shielding design and radiation area monitoring.

Because, this proposed change requires a departure from Tier 1 information in the Westinghouse Advanced Passive 1000 DCD, the licensee also requested an exemption from the requirements of the Generic DCD Tier 1 in accordance with 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed annex building changes updating column line designations and the radwaste building change to add three bunkers for storage of moderate and high activity waste, incorporate the Waste Accumulation Room and the Packaged Waste Storage Room, revise shield wall thicknesses, and eliminate a radiation monitor no longer needed do not alter the assumed initiators to any analyzed event. These proposed changes do not affect the operation of any systems or equipment that could initiate an analyzed accident. The proposed changes to the annex building column line designations update the annex building column line designations in the UFSAR figures to make them consistent with the UFSAR figure for the auxiliary building. The radwaste building proposed changes do not affect any accident initiators, because there is no accident initiator located within that building. Based on the above, the probability of an accident previously evaluated will not be increased by these proposed changes.

The proposed annex and radwaste building configuration changes do not affect any radiological dose consequence analysis for UFSAR Chapter 15. No accident source term parameter or fission product barrier is impacted by these changes. Structures, systems, and components (SSCs) required for mitigation of analyzed accidents are not affected by these changes, and the functions of these buildings are not adversely affected by these changes. Consequently, this activity will not increase the consequences of any analyzed accident, including the main steam line limiting break.

Therefore, the proposed activity does not involve a significant increase in the probability or consequences of an accident previously evaluated.

2. Does the proposed amendment create the possibility of a new or different kind of accident from any accident previously evaluated?

Response: No.

The proposed annex building changes updating column line designations and the radwaste building change to add three bunkers for storage of moderate and high activity waste, incorporate the Waste Accumulation Room and the Packaged Waste Storage Room, revise shield wall thicknesses, and eliminate a radiation monitor no longer needed do not change the design function of the either of these buildings or any of the systems or equipment contained therein or in any other Nuclear Island structures. These proposed changes do not adversely affect any system design functions or methods of operation. These changes do not introduce any new equipment or components or change the operation of any existing systems or equipment in a manner that would result in a new failure mode, malfunction, or sequence of events that could affect safety-related or non-safety-related equipment or result in a radioactive material release. This activity does not allow for a new radioactive material release path or result in a new radioactive material barrier failure mode.

Therefore, this activity does not create the possibility of a new or different kind of accident from any accident previously evaluated.

3. Does the proposed amendment involve a significant reduction in a margin of safety?

Response: No.

The proposed changes do not affect any safety-related equipment, design code compliance, design function, design analysis, safety analysis input or result, or design/safety margin. The margin in the design of the annex and radwaste buildings is determined by the use of the current codes and standards and adherence to the assumptions used in the analyses of this structure and the events associated with this structure. The column line designations for the annex building in UFSAR Tier 2 figures are updated to make them consistent with the UFSAR figures for the auxiliary building. This change has no adverse impact on plant construction or operation. The design of the radwaste building, including the newly added bunkers for moderate and high activity waste, merging of the Waste Accumulation Room and the Packaged Waste Storage Room, will continue to be in accordance with the same codes and standards as stated in the UFSAR. The activity has no effect on off-site dose analysis for analyzed accidents.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius LLC, 1111 Pennsylvania Avenue NW., Washington, DC 20004-2514.

NRC Branch Chief: Lawrence Burkhart.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Accessing Information and Submitting Comments” section of this document.

Calvert Cliffs Nuclear Power Plant, LLC, Docket Nos. 50-317, 50-318, and 72-8, Calvert Cliffs Nuclear Power Plant, Units 1 and 2, Calvert County, Maryland

Nine Mile Point Nuclear Station, LLC, Docket No. 50-220 and 50-410, Nine Mile Point Nuclear Station, Units 1 and 2, Oswego County, New York

R.E. Ginna Nuclear Power Plant, LLC, Docket No. 50-244, R.E. Ginna Nuclear Power Plant, Wayne County, New York

Date of amendment request: August 6, 2013, as supplemented by letters and emails dated August 14, 2013, September 23, 2013, September 26, 2013, December 17, 2013, January 9, 2014, February 5, 2014, February 10, 2014, February 14, 2014, and February 21, 2014.

Brief description of amendments: The amendments conform the licenses to reflect the direct transfer of operating authority for Calvert Cliffs Nuclear Power Plant, (Calvert Cliffs) Units 1 and 2, the Calvert Cliffs Independent Spent Fuel Storage Installation (ISFSI), Nine Mile Point Nuclear Station (Nine Mile Point), Units 1 and 2, and R.E. Ginna Nuclear Power Plant (Ginna) to Exelon Generation Company, LLC, as approved by the Commission Order dated March 24, 2014.

Date of issuance: April 1, 2014.

Effective date: As of the date of issuance and shall be implemented within 60 days of issuance.

Amendment Nos.: Calvert Cliffs—305 and 283, Calvert Cliffs ISFSI—10, Nine Mile Point—214 and 144, and Ginna—115. (ADAMS Accession Nos. ML14091A297, ML14091A323 and ML14091A366; documents related to these amendments are listed in the Safety Evaluation referenced in this notice).

Renewed Facility Operating License Nos. DPR-53, DPR-69, SNM-2505, DPR-63. NPF-69, and DPR-18: The amendments revised the Licenses and Technical Specifications.

Date of initial notice in Federal Register: December 26, 2013 (78 FR 78411).

The Commission's related evaluation of the amendments is contained in a Safety Evaluation for Calvert Cliffs dated March 24, 2014, and for Nine Mile Point and Ginna dated March 25, 2014.

No significant hazards consideration comments received: No.

Exelon Generation Company, LLC, Docket Nos. 50-352 and 50-353, Limerick Generating Station, Units 1 and 2, Montgomery County, Pennsylvania

Date of application for amendments: April 9, 2013.

Brief description of amendments: The amendments delete certain reporting requirements contained in the Technical Specifications (TSs).

Date of issuance: March 26, 2014.

Effective date: As of the date of issuance, to be implemented within 60 days.

Amendments Nos.: 211 and 172. (ADAMS Accession No. ML13214A092; documents related to these amendments are listed in the Safety Evaluation referenced in this notice).

Facility Operating License Nos. NPF-39 and NPF-85: The amendments revised the Facility Operating Licenses and the TSs.

Date of initial notice in Federal Register: May 14, 2013 (78 FR 28252).

The Commission's related evaluation of the amendments is contained in a Safety Evaluation dated March 26, 2014.

No significant hazards consideration comments received: No.

FirstEnergy Nuclear Operating Company, et al., Docket No. 50-346, Davis-Besse Nuclear Power Station, Unit 1, Ottawa County, Ohio

Date of application for amendment: January 18, 2013, as supplemented by letters dated September 27, and December 13, 2013, and January 10, 2014.

Brief description of amendment: This amendment revises Davis-Besse Nuclear Power Station (DBNPS) Technical Specification (TS) 3.4.17, “Steam Generator (SG) Tube Integrity”; TS 3.7.18, “Steam Generator Level”; TS 5.5.8, “Steam Generator (SG) Program”; and TS 5.6.6, “Steam Generator Tube Inspection Report.” The revision to these TSs is to support plant operations following the replacement of the original SGs which is scheduled to be completed in April 2014. The changes to TS 3.4.17, TS 5.5.8, and TS 5.6.6 impose requirements that reflect the analysis and tube materials of the replacement SGs. These changes are consistent with Technical Specifications Task Force (TSTF) traveler TSTF-510, Revision 2, “Revision to Steam Generator Program Inspection Frequencies and Tube Sample Selection,” which was approved by the NRC on October 27, 2011. The revisions to TS 5.5.8 also include minor editorial changes and eliminates the requirements for special visual inspections of the internal auxiliary feedwater header, since this component will not be part of the replacement SGs.

The changes to TS 3.7.18 impose inventory limits on the secondary-side that reflect the design characteristics and dimensions of the replacement SGs. The revised limits will ensure that plant operations with the replacement SGs is bounded by the values used in the existing main steam line break analysis presented in the DBNPS Updated Safety Analysis Report.

Date of issuance: March 31, 2014.

Effective date: As of the date of issuance and shall be implemented within 30 days.

Amendment No.: 287. (ADAMS Accession No. ML14023A766; documents related to this amendment are listed in the Safety Evaluation referenced in this notice).

Facility Operating License No. NPF-3: Amendment revised the Technical Specifications and License.

Date of initial notice in Federal Register: March 19, 2013 (78 FR 16883). The September 27, and December 13, 2013, and January 10, 2014, supplements contained clarifying information within the scope of the proposed action noticed and did not change the staff's initial proposed finding of no significant hazards consideration.

The Commission's related evaluation of the amendment is contained in a Safety Evaluation dated March 31, 2014.

No significant hazards consideration comments received: No.

Florida Power and Light Company, Docket No. 50-335, St. Lucie Plant Unit 1, St. Lucie County, Florida

Date of application for amendment: May 10, 2013, as supplemented by letter dated September 30, 2013.

Brief description of amendment: The amendment revises the Technical Specifications (TSs) to allow the use of AREVA M5® material as an approved fuel rod cladding.

Date of issuance: March 31, 2014.

Effective date: As of the date of issuance and shall be implemented within 60 days of issuance.

Amendment No.: 218. (ADAMS Accession No. ML14064A129; documents related to this amendment are listed in the Safety Evaluation referenced in this notice).

Renewed Facility Operating License No. DPR-67: Amendment revises the license and the TSs.

Date of initial notice in Federal Register: August 6, 2013 (78 FR 47790). The September 30, 2013, supplemental letter provided additional information that clarified the application, did not expand the scope of the proposed amendment as originally noticed, and did not change the initial proposed no significant hazards consideration determination as published in the Federal Register.

The Commission's related evaluation of the amendment is contained in a Safety Evaluation dated March 31, 2014.

No significant hazards consideration comments received: No.

Northern States Power Company—Minnesota (NSPM), Docket No. 50-263, Monticello Nuclear Generating Plant (MNGP), Wright County, Minnesota

Date of application for amendment: January 21, 2010, as supplemented by letters dated March 4, 2010, September 28, 2010, November 11, 2011, June 27, 2012, September 28, 2012, November 30, 2012, December 21, 2012, March 21, 2013, May 13, 2013, June 26, 2013, July 8, 2013, July 31, 2013, August 14, 2013, October 4, 2013, December 20, 2013, and February 24, 2014.

Brief description of amendment: The amendment revises the MNGP technical specifications to allow plant operation from the currently licensed Maximum Extended Load Line Limit Analysis (MELLLA) operating domain to operation in the expanded MELLLA Plus (MELLLA+) operating domain under the current extended power uprate conditions of 2004 megawatts thermal rated core thermal power.

Date of issuance: March 28, 2014.

Effective date: As of the date of issuance and shall be implemented within 120 days of issuance.

Amendment No: 180. (ADAMS Accession No. ML14070A042; documents related to this amendment are listed in the Safety Evaluation referenced in this notice).

Renewed Facility Operating License No. DPR-22: The amendment revised the Renewed Facility Operating License and Technical Specifications.

Date of initial notice in Federal Register: September 21, 2010 (75 FR 57527). The supplemental letters dated March 4, 2010, September 28, 2010, November 11, 2010, June 27, 2012, September 28, 2012, November 30, 2012, December 21, 2012, March 21, 2013, May 13, 2013, June 26, 2013, July 8, 2013, July 31, 2013, August 14, 2013, October 4, 2013, December 20, 2013, and February 24, 2014, provided additional information that clarified the application, did not expand the scope of the application as originally noticed, and did not change the staff's initial proposed no significant hazards consideration determination as published in the Federal Register.

The Commission's related evaluation of the amendment is contained in a Safety Evaluation dated March 28, 2014.

No significant hazards consideration comments received: No.

Dated at Rockville, Maryland, this 4th day of April 2014.
For the Nuclear Regulatory Commission.
Michele G. Evans,
Director, Division of Operating Reactor Licensing, Office of Nuclear Reactor Regulation.

[FR Doc. 2014-08219 Filed 4-14-14; 8:45 am]

BILLING CODE 7590-01-P